DEPARTMENT OF THE INTERIOR

Bureau of Ocean Energy Management

[OMB Control Number 1010-0057; Docket ID: BOEM-2017-0016]

Agency Information Collection Activities; Pollution Prevention and Control

AGENCY: Bureau of Ocean Energy Management, Interior.

ACTION: Notice of information collection; request for comment.

SUMMARY: In accordance with the Paperwork Reduction Act of 1995, the Bureau of Ocean Energy Management (BOEM) proposes to renew its information collection control number 1010-0057 through the Office of Management and Budget (OMB).

DATES: Interested persons are invited to submit comments on or before February 11, 2021.

ADDRESSES: Written comments and recommendations for the proposed information collection request (ICR) should be sent to OMB's Desk Officer for the Department of the Interior at www.reginfo.gov/public/do/PRAMain within 30 days of publication of this notice. Find this ICR by selecting “Department of the Interior” in the “Select Agency” pulldown menu under “Currently under Review”, clicking the box marked “Only Show ICR For Public Comment” near the top left-hand side of the resulting web page, and scrolling down to OMB Control Number 1010-0057. Alternatively, the search function may be used. Please provide a copy of your comments to the BOEM Information Collection Clearance Officer, Anna Atkinson, by mail service addressed to her at Bureau of Ocean Energy Management, 45600 Woodland Road, Sterling, Virginia, 20166; or by email to anna.atkinson@boem.gov. Please reference OMB Control Number 1010-0057 in the subject line of your comments.

FOR FURTHER INFORMATION CONTACT: To request additional information about this ICR, contact Anna Atkinson by email or by telephone at 703-787-1025. You may also view the ICR at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of the information collection requirements and minimize the public's reporting burden. It also helps the public understand BOEM's information collection requirements and provide the requested data in the desired format.

Abstract: Section 5(a) of the Outer Continental Shelf Lands Act (OCSLA), as amended (43 U.S.C. 1334(a)), authorizes the Secretary of the Interior (Secretary) to prescribe rules and regulations to manage the mineral resources of the Outer Continental Shelf (OCS). Such rules and regulations apply to all operations conducted under a lease, right-of-use and easement, and pipeline right-of-way.

Section 5(a)(8) of OCSLA requires that regulations prescribed by the Secretary include provisions “for compliance with the national ambient air quality standards pursuant to the Clean Air Act (42 U.S.C. 7401 et seq.), to the extent that activities authorized under this subchapter significantly affect the air quality of any State.” This information collection renewal concerns information that is submitted to BOEM under 30 CFR part 550, subpart C, “Pollution Prevention and Control,” which implements section 5(a)(8), and related notices to lessees and operators (NTLs), which clarify and provide additional, nonbinding guidance on aspects of the regulations. BOEM uses this information to inform its decisions on plan approval, to ensure operations are conducted according to all applicable regulations and plan conditions of approval, and to inform State and regional planning organizations' modeling efforts.

BOEM prepares an emissions inventory every three years to help ensure that its regulations comply with section 5(a)(8) of OCSLA and to implement the requirements at 30 CFR 550.303(k) and 550.304(g). These emission inventories provide the essential input that BOEM needs to assess the impacts of OCS oil and gas activity on the States as mandated by the OCSLA. Also, these inventories provide the States with essential information needed to perform their implementation plan demonstrations to the U.S. Environmental Protection Agency (USEPA) and the operators with essential data for their mandatory reporting of greenhouse gases to the USEPA.

BOEM began planning for the next emissions inventory, scheduled for calendar year 2021, by issuing NTL No. 2020-N03, 2021 OCS Emissions Inventory—Western Gulf of Mexico (GOM) and Adjacent to the North Slope Borough of the State of Alaska, on October 1, 2020. The NTL instructed lessees and operators on submitting information about their facility operations, as required by OCSLA and BOEM's regulations, through BOEM's new, web-based emissions reporting tool, the OCS Air Quality System (OCS AQS). OCS AQS allows operators to submit their facility activity data electronically into the system, instantaneously calculates monthly and annual emissions, assures and controls data quality, generates reports, such as emission inventory reports, and creates data graphics including geographic information system (GIS) maps for operators and BOEM.

During previous emission inventories, BOEM used the Gulfwide Offshore Activity Data System (GOADS) software to collect the necessary emissions data from lessees and operators. This software is outdated and resides on a platform that BOEM is no longer able to utilize satisfactorily. Unlike GOADS, OCS AQS makes it easy for users to enter activity data, calculate emissions data in real-time, and leverage built-in validation features to quality check calculations prior to submission.

Title of Collection: 30 CFR part 550, subpart C, Pollution Prevention and Control.

OMB Control Number: 1010-0057.

Form Number: None.

Type of Review: Extension of a currently approved collection.

Respondents/Affected Public: Potential respondents comprise Federal OCS oil and gas or sulfur lessees and operators and States.

Total Estimated Number of Annual Respondents: 807.

Respondent's Obligation: Mandatory or required to obtain or retain a benefit.

Frequency: Every three years.

Total Estimated Annual Non-hour Burden Cost: None.

Estimated Reporting and Recordkeeping Hour Burden: BOEM estimates the annual burden for this collection to be 51,080 hours. In view of industry comment to the 60-day notice regarding this ICR, BOEM recalculated its estimated information collection burden hours per OCS facility and concluded that an increase of 20 hours per facility was warranted based, in part, on industry feedback to account for reporting responsibilities for certain drilling rig and construction vessel emissions. This recalculation resulted in an increase of 15,880 burden hours over OMB's currently approved 35,200 burden hours for control number 1010-0057. The following table details the individual BOEM information collections under control number 1010-0057 and respective hour burden estimates for this ICR. Any changes to the annual burden hours compared with the already-approved IC are bolded.

Burden Table
Citation 30 CFR 550 subpart C and related NTL(s) | Reporting and recordkeeping requirement | Hour burden | Average number of annual responses | Annual burden hours
Facilities described in new or revised EP or DPP
303; 304(a), (f) | Submit, modify, or revise Exploration Plans and Development and Production Plans; submit information required under 30 CFR Part 550, Subpart B | Burden covered under 1010-0151 (30 CFR Part 550, Subpart B). |  | 0
303(k); 304(a), (g); NTL | Collect and report (in manner specified) air quality emissions related data (such as facility, equipment, fuel usage, and other activity information) during each specified calendar year for input into BOEM's impacts assessments, and State and regional planning organizations' modeling through specified software. (NTL OCS Emissions Inventory) | 64 hrs per facility | 794 facilities | 50,816
303(l); 304(h) | Collect and submit (in manner specified) meteorological data (not routinely collected); emission data for existing facilities to a State. | 8 | 1 submission | 8
Subtotal |  | 795 responses | 50,824
Existing Facilities
304(a), (f) | Affected State may submit request, with supporting information to BOEM, for basic emission data from existing facilities to update State's emission inventory | 16 | 5 requests | 80
304(e)(2) | Submit compliance schedule for application of best available control technology (BACT) | 40 | 1 schedule | 40
304(e)(2) | Apply for suspension of operations | Burden covered under BSEE 1014-0022 (30 CFR 250.174). |  | 0
304(f) | Submit information to demonstrate that exempt facility is not significantly affecting air quality of onshore area of a State. Submit additional information to determine if controls are required. | 16 | 1 submission | 16
Subtotal |  | 7 responses | 136
General
303-304 | Departure and alternative compliance (as cited in 550.142) requests from 303 and 304 not specifically covered elsewhere in subpart C regulations | 24 | 5 requests | 120
Subtotal |  | 5 responses | 120
Total Burden |  |  | 807 responses | 51,080

BOEM issued a Federal Register notice with a 60-day public comment period soliciting comments on this proposed ICR, which was published on August 10, 2020 (85 FR 48261). The Offshore Operators Committee (OOC) submitted the only comments. This organization commented on the burden estimates and OCS AQS functionality. Based on OOC's input, BOEM updated OCS AQS to address the system's technical issues and modified the burden estimates.

The OOC comments and BOEM's responses are summarized below. For additional details, please review the comment and responses by searching for OMB Control Number 1010-0057 on regsinfo.gov.

Comment: Regarding the reporting of non-platform data, OOC stated, “Historically, collection of non-platform air emission data was the responsibility of BOEM. By shifting the responsibility of collecting and reporting non-platform source data to operators, BOEM is increasing the burden of reporting. For example, the Burden Table included in the Notice of Information Collection estimates 44 hours per facility to collect and report emissions data. As described in the attached comments, we estimate that for drilling rigs alone (exclusive of platforms and other support vessels) the estimated reporting burden is 117 hours per facility.”

BOEM Response: BOEM requires emissions reporting from “facilities,” as defined in its regulations implementing its OCSLA authority. The projected emissions from these sources are reported in the plans review process and documented in the air quality spreadsheets (BOEM-0138 and BOEM-0139), which fall under OMB Control Number 1010-0151.

BOEM would require the operator to submit activity or emissions data for all facilities corresponding to the definition of facility in BOEM's regulation and the recently updated plan review process, which includes drilling rig emissions when the rig is attached to the seabed and construction vessel emissions when the vessel is engaged in construction.

Upon further review, BOEM acknowledges that there will be additional burden hours for reporting emissions from these drilling rigs and construction vessels. BOEM will simplify the reporting of drilling rig data in OCS AQS by including a look up table for horsepower ratings, so that the operator needs to input only fuel throughput and total hours of drilling. Moreover, BOEM notes that reporting information on construction vessels will not be an altogether new burden because, during the plan review process, some construction vessels are subject to a standard condition of approval that requires submission of fuel throughput compliance verification to BSEE. This current burden is included in OMB Control Number 1010-0151.

The current emissions collection and reporting burden is 44 hours per facility for platform sources. This burden will remain the same for the first year for these sources (with a chance of decreasing in three years due to the learning curve of a new reporting tool). Assuming one drilling rig and one construction vessel per facility, BOEM believes that an additional 20 hours per facility (10 hours per emission source) should be added to the current 44 burden hours to reflect the new reporting responsibilities. Therefore, BOEM is increasing the burdens to 64 hours per facility.

Comment: It appeared to OOC that BOEM is requiring the reporting of data from drilling rigs and construction vessels underway within 25 miles of a facility. OOC indicated that drilling rigs and vessels underway do not meet the definition of “facility” in 30 CFR 550.302 because, when underway, the rig or vessel is not attached to the seabed. Therefore, according to OOC, the rig or vessel does not fall under BOEM's OCSLA authority.

BOEM Response: BOEM requires the reporting of data from facilities as defined in its regulations, which includes drilling rigs attached to the seabed and construction vessels engaged in construction. BOEM will not require the reporting of emissions when these sources are otherwise underway within 25 miles of a facility.

Comment: Regarding potential changes to reporting frequencies, OOC stated, “It is unclear if the 3-year reporting frequency will change with the implementation of AQS. For example, will operators be required to submit monthly data on an ongoing basis? If that is the case, then the estimated burden will increase substantially, at least by a factor of 3 because reporting will no longer be required every 3 years. If this is the intent of the agency, then a new burden estimate must be completed prior to implementation of the new system.”

BOEM Response: BOEM intends to collect emissions data roughly every three years. However, because of the delay in development of OCS AQS, BOEM is off-cycle; its last emissions inventory was in 2017. BOEM is planning for the next inventory in 2021 followed by another one in 2023 in order to align with USEPA's emissions reporting cycle.

Comment: Regarding complexities of reporting flare information, OOC stated that the complexity of how flare emissions data is constructed in OCS AQS raises concerns.

BOEM's Response: Operators should report one flare source per flare using their flare design specifications from the manufacturer for the smoke condition and total volume flared (including pilot light). BOEM will clarify this in the updated OCS AQS user's manual. This guidance is consistent with the 2017 emissions inventory collection and does not affect the burden hours.

Comment: Regarding Oil and Gas Operations Report reconciliation, OOC stated that those reports should not be utilized for emissions calculations or emissions data quality assurance or control because the accounting standards and requirements applicable to the reports do not yield technically correct emissions estimates.

BOEM's Response: Oil and Gas Operations Reports were mentioned in the OCS AQS training guide, while the tool was under development, because BOEM is uploading these reports into OCS AQS to reconcile volumes vented and flared. It was a reminder to operators to ensure consistency in reporting, not an indication that report data was to be used in calculating or reporting emissions in OCS AQS.

Comment: Regarding OCS AQS's quality assurance and control (QA/QC) functionality, OOC indicated that the functionality could be streamlined to improve system effectiveness and reduce burden.

BOEM's Response: BOEM has updated OCS AQS's QA/QC functionality to support the requested performance improvements. Specifically, when a user selects the option to submit an emissions inventory, a QA/QC check is automatically executed against that inventory. If any QA/QC issues are detected, the user is notified and provided with a spreadsheet detailing the specific issues that were identified by the check. This spreadsheet can be downloaded from OCS AQS. The user's manual is being updated to reflect this change.

Comment: Regarding confidentiality of data and defined user roles, OOC indicated that BOEM should clarify and ensure controls are integrated into OCS AQS so that data remains confidential and available only to the organization reporting the data.

BOEM's Response: BOEM agrees that only an operator's designated representatives or agent should be able to access data for an assigned facility during the inventory reporting year. Operators and the public will be able to access the results of the final, historical inventory for all facilities as BOEM has always made this data publicly available and plans to continue doing so. The publicly available results of the inventory will not include any confidential business information.

Comment: Regarding file naming conventions associated with OCS AQS's import and export functions, OOC suggested enhancements to OCS AQS to allow users to define file names during data import and export to reduce burden and improve system functionality.

BOEM's Response: All supported browsers (Firefox, Chrome, Edge) provide this option for the user. By default, this option is usually set to the Downloads folder. However, there is an option to have the application ask where to save the file, which then allows the user to rename the file during the operation. The browser options are beyond the control of the OCS AQS software. The updated user's manual will provide additional guidance.

Comment: Regarding the 2021 initial inventory using OCS AQS and the transfer of GOADS data, OOC said it is unclear what GOADS data from the 2017 inventory (the last reporting year using GOADS) will be transferred for the initial OCS AQS inventory in 2021. Historical activity data does not need to be included, but all historical descriptive, static data should be transferred to minimize company burden to populate.

BOEM's Response: As with GOADS, operators will receive all static data for platform sources from the past inventory (in this case, 2017), including complex and structure identification and emission sources data. As commented, activity data such as throughput and hours of operation are not carried forward as this information is expected to change year to year. Operators should review the static data to ensure its accuracy before entering any activity data.

Comment: Regarding clarification on reporting storage tank emissions, OOC stated, “Reporting of data to estimate storage tank emissions is appropriate and necessary. However, changes to the types of storage data and the calculations within AQS would reduce burden.”

BOEM's Response: As with GOADS, BOEM will continue to require the reporting of crude oil storage tanks, but not other types of storage tanks. This is consistent with the reporting requirements in the plan review process on the air quality spreadsheets.

In addition to these comments, OOC pointed out several technical errors with OCS AQS and other issues needing further clarification. BOEM appreciates the technical comments and observations, and is working with its contractors to update OCS AQS and the user's manual, as necessary.

Under OMB's governing regulations, BOEM seeks public comments on this proposed ICR. BOEM is especially interested in comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to OMB for approval of this ICR. You should be aware that your entire comment—including your address, phone number, email address, or other personally identifying information—may be made publicly available at any time. In order for BOEM to withhold your personally identifiable information from disclosure, you must identify any information contained in your comment that, if released, would clearly constitute an unwarranted invasion of your personal privacy. You must also briefly describe any possible harmful consequences that disclosure of your information would cause, such as embarrassment, injury, or other harm. While you can ask BOEM in your comment to withhold your personally identifiable information from public review, BOEM cannot guarantee that it will be able to do so.

BOEM protects proprietary information in accordance with the Freedom of Information Act (5 U.S.C. 552), the Department of the Interior's implementing regulations (43 CFR part 2), and BOEM's regulations at 30 CFR 550.197.

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2021-00382 Filed 1-11-21; 8:45 am]

BILLING CODE 4310-MR-P